DEPARTMENT OF HEALTH AND HUMAN SERVICES

National Institutes of Health

National Institute on Drug Abuse; Notice of Webinar Meeting

SUMMARY: Pursuant to the NIH Reform Act of 2006 (42 U.S.C. 281(d)(4)), notice is hereby given that the National Institute on Drug Abuse (NIDA) will host a meeting to enable public discussion on the Institute's proposal to reorganize its extramural program in establishment of a Division of Extramural Research.

DATES: This public meeting will take place on May 30, 2014 at 2 p.m., with attendance limited to space available.

ADDRESSES: Webex Meeting via: https://nida-events.webex.com/nida-events/onstage/g.php?d=660244762&t=a. Participants are encouraged to join this meeting at the link provided at least 20 minutes prior to the scheduled start time.

Instructions for joining the event can be found below:

1. Enter the Web url above into your web browser address bar and hit enter.

2. If requested, enter your name and email address.

3. If a password is required, enter the meeting password: Friday5!

4. Click “Join.”

For audio support to this event, the audio conference information is as follows:

Phone Number: 1-866-842-0779.

Participant Code No. 4459104.

Any interested person may file written comments by sending an email to NIDADERComment@mail.nih.gov, by June 3, 2014. The statement should include the individual's name, contact information and, when applicable, professional affiliation.

FOR FURTHER INFORMATION CONTACT: Dave Daubert, Deputy Executive Officer, National Institute on Drug Abuse, Office of Management, 6001 Executive Boulevard, NSC Building, Room 5274, Bethesda, MD 20892, 301-402-1652, daubert@nih.gov.

SUPPLEMENTARY INFORMATION: The agenda for this meeting will consist of updates made to the proposed reorganization plans for the NIDA extramural program in establishment of a Division of Extramural Research based on initial discussions, public comment and feedback at the NIDA Advisory Council on Drug Abuse Meeting on May 7th. The proposal seeks to clearly delineate functions and streamline the services provided within the Office of the Director, as well as capitalize on emerging scientific opportunities, while reducing barriers to scientific and interdisciplinary collaboration.

Members of the public wishing to attend must view the discussion via webex link https://nida-events.webex.com/nida-events/onstage/g.php?d=660244762&t=a and enter the audio conference information above from their telephone. Upon opening the link provided, please contact your IT support group for assistance in uploading any necessary drivers (e.g. MBR2 player) prior to the start of this event.

Dated: May 8, 2014.
Nora Volkow,
Director, National Institute on Drug Abuse, National Institutes of Health.

[FR Doc. 2014-11253 Filed 5-15-14; 8:45 am]

BILLING CODE 4140-01-P